DEPARTMENT OF ENERGY

National Petroleum Council

AGENCY: Office of Fossil Energy and Carbon Management, Department of Energy (DOE).

ACTION: Notice of renewal.

SUMMARY: Pursuant to the Federal Advisory Committee Act, and the Code of Federal Regulations, and following consultation with the Committee Management Secretariat, General Services Administration, notice is hereby given that the National Petroleum Council has been renewed for a two-year period.

FOR FURTHER INFORMATION CONTACT: Ms. Nancy Johnson at (202) 586-6458, or email: nancy.johnson@hq.doe.gov.

SUPPLEMENTARY INFORMATION: The Council will continue to provide advice, information, and recommendations to the Secretary of Energy on matters relating to oil and natural gas, and the oil and natural gas industries. The Secretary of Energy has determined that renewal of the National Petroleum Council is essential to the conduct of the Department's business and in the public interest in connection with the performance of duties imposed by law upon the Department of Energy. The Council will continue to operate in accordance with the provisions of the Federal Advisory Committee Act (Pub. L. 92-463), the General Services Administration Final Rule on Federal Advisory Committee Management, and other directives and instructions issued in implementation of those Acts.

Signing Authority

This document of the Department of Energy was signed on January 5, 2024, by Sarah E. Butler, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 9, 2024.
Treena V. Garrett,
Federal Register Liaison Officer, U.S. Department of Energy.

[FR Doc. 2024-00537 Filed 1-11-24; 8:45 am]

BILLING CODE 6450-01-P